DEPARTMENT OF DEFENSE

Department of the Army, Corps of Engineers

Withdrawal of Notice of Intent To Prepare a Supplemental Environmental Impact Statement for the San Clemente Shoreline Protection Project

AGENCY: Corps of Engineers, Department of the Army, DoD.

ACTION: Notice of intent; withdrawal.

SUMMARY: The U.S. Army Corps of Engineers (USACE) is issuing this notice to advise federal, state, and local government agencies and the public that USACE is withdrawing the notice of intent (NOI) for the preparation of a Supplemental Environmental Impact Statement (SEIS) for the San Clemente Shoreline Protection Project (Project) which was published in the Federal Register on July 2, 2024. Since publication of the NOI, there has been a reduction in scope which involves less impacts than was anticipated at the time of the NOI, resulting in preparing a supplemental environmental assessment (SEA).

DATES: The NOI to prepare a SEIS published in the Federal Register on July 2, 2024 (89 FR 54802), is withdrawn as of March 19, 2025.

ADDRESSES: U.S. Army Corps of Engineers, Los Angeles District, Environmental Resources Branch, (CESPL-PDR), 915 Wilshire Blvd., Suite 1109, Los Angeles, CA 90017-3409.

FOR FURTHER INFORMATION CONTACT: Questions about the withdrawal of the NOI can be directed to Kenneth Wong, Planning Division, USACE Los Angeles District at (213) 361-2269 or kenneth.wong@usace.army.mil.

SUPPLEMENTARY INFORMATION: The San Clemente Shoreline Protection Project was authorized by the Water Resources Reform and Development Act of 2014, Public Law 113-121, section 7002 for the purpose of reducing coastal storm damages by constructing a beach fill/berm along the San Clemente shoreline. The authorized project includes construction of an approximate 50-footwide beach nourishment project along a 3,412-foot-long stretch of shoreline using beach compatible sediment, with renourishment on the average of every 6 years over a 50-year period of federal participation. The project is further described in the Final Feasibility Report dated February 2012 and Joint Final Environmental Impact Statement/Environmental Impact Report dated July 2011, SEA dated May 2023, and SEA dated March 2024. In October 2024, the USACE finalized a SEA evaluating the continuation and completion of the initial construction of the Project. The USACE determined the reduced proposed action is not likely to result in significant impacts requiring preparation of a SEIS.

Construction of the project was initiated in December 2023. However, due in part to equipment damage and sediment compatibility issues encountered at the Oceanside borrow area, construction was temporarily paused. To allow for operational flexibility, the March 2024 SEA evaluated inclusion of the Surfside-Sunset borrow area, a 106-acre borrow site offshore Surfside-Sunset beaches located 29 miles to the north of San Clemente, in Orange County, as an alternate borrow site for initial construction of the project. In April 2024, during the construction window evaluated in the March 2024 SEA, the USACE contractor placed 115,000 cubic yards of compatible sediment on San Clemente Beach as part of the initial construction of the Project.

The proposed action, as described in the NOI, involved identifying suitable location(s) containing enough beach compatible sediment required to nourish San Clemente Beach and complete the project, including future nourishment. Following monitoring of the beach nourishment site, USACE will determine the appropriate frequency and borrow material quantity for beach nourishment and whether a different borrow site would be needed for those future renourishments. USACE will evaluate the proposed impacts of future renourishment placements following monitoring.

Joseph M. Savage,
Programs Director.

[FR Doc. 2025-04493 Filed 3-18-25; 8:45 am]

BILLING CODE 3720-58-P